DEPARTMENT OF HEALTH AND HUMAN SERVICES

Administration for Children and Families

Submission for OMB Review; Comment Request

Title: Head Start Impact Study.

OMB No.: New collection.

Description: The Administration on Children, Youth and Families (ACYF), Administration for Children and Families (ACF) of the Department of Health and Human Services (DHHS), is requesting comments on plans to conduct the Head Start Impact Study. This study is being conducted under contract with Westat, Inc. (with the Urban Institute, American Institutes for Research, and Decision Information Resources as their subcontractors) (#282-00-0022) to collect information for determining, on a national basis, how Head Start affects the school readiness of children participating in the program, as compared to children not enrolled in Head Start, and to determine under which conditions Head Start works best and for which children. The Head Start Impact Study involves 10 waves of data collection.

The first two waves occurred during the field test in fall 2001 and spring 2002. The field test involved approximately 500 first time enrolled three- and four-year-old preschool children across eight grantee/delegate agencies representing different community contexts. The children participating were randomly assigned to either a Head Start group (that receives Head Start program services) or a comparison group (that does not receive Head Start services but may enroll in other available services selected by their parents or be cared for at home). Waves three through 10 will involve data collection for the full-scale study. The Head Start Impact Study is a longitudinal study that will involve approximately 5,000-6,000 first time enrolled three- and four-year-old preschool children across an estimated 75 nationally representative grantee/delegate agencies (in communities where there are more eligible children and families than can be served by the program). Data collection for the full-scale study will begin in fall 2002 and extend through spring 2006 with child assessments, conducted in the fall and spring of the Head Start years and in the spring of the kindergarten and first grade years, and parent interviews conducted in the fall and spring of each year. Interviews/surveys with program staff/care providers, and quality of care assessments will be conducted in the spring of each year. This schedule of data collection is necessitated by the mandate in Head Start's 1998 reauthorization (Coats Human Services Amendments of 1998, Pub. L. 05-285) that DHHS conduct research to determine, on a national level, the impact of Head Start on the children it serves.

Respondents: Individuals or households, Head Start Agencies, school districts, and other child care providers.

Annual Burden Estimates: Estimated Response Burden for Respondents to the Head Start Impact Study—fall 2002, spring 2003, fall 2003, spring 2004, fall 2004, spring 2005, fall 2005, and spring 2006.

Instrument | Number of respondents | Number of responses per respondent | Average burden hours per response | Total burden hours
Year 1 (fall 2002):
Parent Interviews | 5,111 | 1 | 1.00 | 5,111
Child Assessment | 5,111 | 1 | 0.9166 | 4,685
Teacher Ratings | 613 | 5 | 0.0833 | 255
Center Directors/Principals | 307 | 1 | 1.00 | 307
Classroom Teachers | 613 | 1 | 0.50 | 307
Year 1 (spring 2003):
Parent Interviews | 4,599 | 1 | 1.00 | 4,599
Father Questionnaire | 4,599 | 1 | 0.50 | 2,300
Child Assessments | 4,599 | 1 | 0.9166 | 4,216
Teacher Ratings | 966 | 5 | 0.0833 | 403
Family Service Workers | 368 | 1 | 0.50 | 184
Education Coordinators | 368 | 1 | 0.50 | 184
Center Directors/Principals | 368 | 1 | 1.00 | 368
Classroom Teachers | 736 | 1 | 0.50 | 368
Other Care Providers | 230 | 1 | 0.50 | 115
Year 2 (fall 2003):
Parent Interviews | 4,139 | 1 | 1.00 | 4,139
Child Assessments | 2,287 | 1 | 0.9166 | 2,096
Year 2 (spring 2004):
Parent Interviews | 3,910 | 1 | 1.00 | 3,910
Child Assessments | 3,910 | 1 | 0.0833 | 3,584
Teacher Ratings | 803 | 5 | 0.0833 | 335
Family Service Workers | 165 | 1 | 0.50 | 83
Education Coordinators | 165 | 1 | 0.50 | 83
Center Directors/Principals | 350 | 1 | 1.00 | 350
Classroom Teachers | 700 | 1 | 0.50 | 350
Other Care Providers | 103 | 1 | 0.50 | 52
Year 3 (fall 2004): Parent Interviews | 3,519 | 1 | 1.00 | 3,519
Year 3 (spring 2005):
Parent Interviews | 3,519 | 1 | 1.00 | 3,519
Child Assessments | 3,519 | 1 | 0.9166 | 3,226
Teacher Ratings | 704 | 5 | 0.0833 | 293
Principals | 352 | 1 | 1.00 | 352
Classroom Teachers | 704 | 1 | 0.50 | 352
Year 4 (fall 2005): Parent Interviews | 1,667 | 1 | 1.00 | 1,667
Year 4 (spring 2006):
Parent Interviews | 1,667 | 1 | 1.00 | 1,667
Child Assessments | 1,667 | 1 | 0.9166 | 1,528
Teacher Ratings | 333 | 5 | 0.0833 | 139
Principals | 167 | 1 | 1.00 | 167
Classroom Teachers | 333 | 1 | 0.50 | 167
Estimated Total Annual Burden Hours: |  |  |  | 13,745
Note: The 13,745 Total Annual Burden Hours is based on an average of 200203, 200304, 200405, and 200506 estimated burden hours.

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: August 12, 2002.
Robert Sargis,
Reports Clearance Officer.

[FR Doc. 02-20786 Filed 8-15-02; 8:45 am]

BILLING CODE 4184-01-M